DEPARTMENT OF THE TREASURY

Internal Revenue Service

26 CFR Part 1

[TD 9967]

RIN 1545-BO92

Section 42, Low-Income Housing Credit Average Income Test Regulations; Correction

AGENCY: Internal Revenue Service (IRS), Treasury.

ACTION: Final and temporary regulations; correction.

SUMMARY: This document contains corrections to the final regulations (Treasury Decision 9967) published in the Federal Register on Wednesday, October 12, 2022. This correction includes final and temporary regulations setting forth guidance on the average income test for purposes of the low-income housing credit.

DATES: These corrections are effective on November 14, 2022 and applicable on or after October 12, 2022.

FOR FURTHER INFORMATION CONTACT: Concerning the regulations, Dillon Taylor at (202) 317-4137.

SUPPLEMENTARY INFORMATION:

Background

The final regulations (TD 9967) subject to this correction are issued under section 42 of the Internal Revenue Code.

Correction of Publication

Accordingly, the final regulations (TD 9967) that are the subject of FR Doc. 2022-22070, appearing on page 61489 in the Federal Register on October 12, 2022, are corrected to read as follows:

1. On page 61489, in the third column, in the thirteenth line from the top of the column, the language “142(d)(6))” is corrected to read “142(d)(6)”.

2. On page 61490, in the third column, in the fourth and fifth lines from the bottom of the column, the language “market rate” is corrected to read “market-rate”.

3. On page 61492, in the first column, the last line from the bottom of the column, the language “IRS” is corrected to read “the IRS”.

4. On page 61492, in the third column, in the last paragraph, the seventh line from the top of the paragraph, the language “appliable” is corrected to read “applicable”.

5. On page 61494, in the second column, in the last paragraph, the twelfth line from the bottom, the language “42(c)(1)(c)(i)” is corrected to read “42(c)(1)(i)(C)”.

6. On page 61495, in the third column, in the first full paragraph, in the third line, the language “proposal rule” is corrected to read “proposed rule”.

7. On page 61497, in the third column, in the third full paragraph, in the tenth line from the top of the paragraph, the language “makes” is corrected to read “make”.

8. On page 61498, in the second column, in the first full paragraph, in the second and ninth lines from the top of the paragraph, the language “IRS” is corrected to read “the IRS”.

9. On page 61500, in the second column, under the caption “III. Regulatory Flexibility Act”, in the first full paragraph, in the tenth line from the bottom of the paragraph, the language “test)” is corrected to read “test”.

10. On page 61500, in the second column, under the caption “III. Regulatory Flexibility Act”, in the second full paragraph, the third line from the bottom of the paragraph, the language “(v)” is corrected to read “(vi)”.

Oluwafunmilayo A. Taylor,
Branch Chief, Legal Processing Division, Associate Chief Counsel, (Procedure and Administration).

[FR Doc. 2022-24634 Filed 11-10-22; 8:45 am]

BILLING CODE 4830-01-P